DEPARTMENT OF THE INTERIOR

National Park Service

National Register of Historic Places; Notification of Pending Nominations

Nominations for the following properties being considered for listing in the National Register were received by the National Park Service before September 9, 2000.

Pursuant to section 60.13 of 36 CFR Part 60 written comments concerning the significance of these properties under the National Register criteria for evaluation may be forwarded to the National Register, National Park Service, 1849 C St. NW, NC400, Washington, DC 20240. Written comments should be submitted by October 3, 2000.

Beth Savage,
Acting, Keeper of the National Register.

CALIFORNIA

Los Angeles County

Atchinson, Topeka, and Santa Fe Railway Steam Locomotive No. 3751, 2435 E. Washington Blvd., Los Angeles, 00001178

San Diego County

Temple Beth Israel, 2504-2512 Third Ave., San Diego, 00001179

Sonoma County

Sonoma State Home—Main Building, 15000 Arnold Dr., Eldridge, 00001180

KANSAS

Franklin County

Ottawa High School and Junior High School, 526 and 506 S. Main St., Ottawa, 00001188

NEW YORK

Richmond County

Church of St. Andrew, Arthur Kill and Old Mill Rds., Staten Island, 00001187

NORTH CAROLINA

Avery County

Banner Elk Hotel, 309 Banner St., Banner Elk, 00001182

Henderson County

Grey Hosiery Mill, 301 Fourth Ave. E, Hendersonville, 00001189

Moore County

Phillips, John Evander, House, NC 24/27, 0.3 mi outside Cameron, Cameron, 00001184

New Hanover County

Tinga Nursery, US 117, 0.62 mi. N of jct. with NC 132, Wrightsboro, 00001185

Pitt County

Cox—Ange House, 113 N. Church St., Winterville, 00001181

Wake County

Walnut Hill Historic District, (Wake County MPS) Along Mial Plantation Rd., jct with Major Slade Rd. and Smithfield Rd., Knightdale, 00001183

Warren County

Skinner, Dr. Charles and Susan, House and Outbuildings, NC 1528, 0.25 mi. SW of NC 158, Littleton, 00001186

WISCONSIN

St. Croix County

Kinnickinnic Church, WI J, jct. with WI JJ, Kinnickinnic, 00001190

WYOMING

Laramie County

Federal Office Building—Cheyenne, 308 W. 21st St., Cheyenne, 00001191

A Request for Removal has been made for the following resource:

ARIZONA

Maricopa County

Archeological Site No. AZ U:10:77 (ASM) (Hohokam and Euroamerican Land Use and Settlement Along the Northern Queen Creek Delta MPS), Address Restricted, Mesa 95000749

[FR Doc. 00-23874 Filed 9-15-00; 8:45 am]

BILLING CODE 4310-70-P